DEPARTMENT OF STATE

[Public Notice 5051]

Culturally Significant Objects Imported for Exhibition Determinations: “Mir Iskusstva: Russia's Age of Elegance”

Summary: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Mir Iskusstva: Russia's Age of Elegance,” imported from abroad for temporary exhibition within the United States, are of cultural significance. The objects are imported pursuant to loan agreements with the foreign owners. I also determine that the exhibition or display of the exhibit objects at the Joslyn Art Museum, Omaha, Nebraska, from on or about June 4, 2005 to on or about September 14, 2005, and at the Frederick R. Weisman Art Museum, Minneapolis, Minnesota, from on or about October 7, 2005 to on or about January 8, 2006, and at the Princeton University Art Museum, Princeton, New Jersey, from on or about February 25, 2006 to on or about June 11, 2006, and at possible additional venues yet to be determined, is in the national interest. Public Notice of these Determinations is ordered to be published in the Federal Register.

For Further Information Contact: For further information, including a list of the exhibit objects, contact Wolodymyr R. Sulzynsky, the Office of the Legal Adviser, Department of State, (telephone: 202/453-8050). The address is Department of State, SA-44, 301 4th Street, SW., Room 700, Washington, DC 20547-0001.

Dated: April 15, 2005.
C. Miller Crouch,
Principal Deputy Assistant Secretary for Educational and Cultural Affairs, Department of State.

[FR Doc. 05-7590 Filed 4-14-05; 8:45 am]

BILLING CODE 4710-08-P